DEPARTMENT OF THE INTERIOR

Bureau of Land Management

[LLORM07000; L14300000.EU0000; OR-65853; HAG-10-0049]

Noncompetitive Lease of Public Land; Josephine County, Oregon

AGENCY: Bureau of Land Management, Interior.

ACTION: Notice of Realty Action.

SUMMARY: The Bureau of Land Management (BLM) has determined that the parcel of land identified in this notice (approximately 10.21 acres) is available for wildlife rehabilitation and education activities through a non-competitive (direct) lease to Wildlife Images Rehabilitation and Education Center in order to resolve unauthorized use and occupancy of public land. This determination of availability conforms to the Medford District Resource Management Plan (2008) as well as the Rogue River Plan (1972) and the 2003 Hellgate Recreation Area Management Plan (2003) for the Rogue National Wild and Scenic River. The determination of availability is also fully consistent with the prior Resource Management Plan, as amended, for the BLM Medford District, dated June 1995. The lease would be issued pursuant to Section 302(b) of the Federal Land Policy and Management Act of l976 (FLPMA), as amended, (90 Stat. 2762; 43 U.S.C. 1732) and the implementing regulations at 43 CFR part 2920.

DATES: Interested parties may submit written comments regarding: (1) The availability of the lands described herein for leasing, and (2) The decision to accept for processing an application from Wildlife Images Education and Rehabilitation Center for a non-competitive lease. Comments must be received no later than 45 days from the publication date of this notice in the Federal Register.

ADDRESSES: Address all written comments to Abbie Jossie, Field Manager, Bureau of Land Management, Grants Pass Interagency Office, 2164 NE Spalding, Grants Pass, Oregon 97526. Only written comments submitted through the U.S. Postal Service or other delivery service, or hand-delivered to the BLM Medford District Office will be considered properly filed. Electronic mail, facsimile, or telephone comments will not be considered properly filed.

FOR FURTHER INFORMATION CONTACT: Carl Symons, Realty Specialist, BLM Medford District Office, 3040 Biddle Road, Medford, Oregon 97504. Phone: (541) 618-2239.

SUPPLEMENTARY INFORMATION: The parcel is a portion of a 26.40-acre tract acquired by the United States under the authority of the Wild and Scenic Rivers Act (W&SRA) (Pub. L. 90-542) and managed as part of the Rogue W&SR Corridor. In accordance with section 14A(a) of the W&SRA, tracts within the boundaries of a wild and scenic rivers system may be leased, subject to such restrictive covenants as may be necessary to carry out the purposes of the Act. Section 14A(b) of the W&SRA also states: “Any land to be leased by the Secretary under this section shall be offered first for such lease to the person who owned such land immediately before its acquisition by the U.S.” The BLM has performed due diligence to contact the landowners prior to the U.S. acquisition (David B. Heriot, Benjamin M. Heriot, and Marcia Chamberlain) and has not been able to locate them. This notice also provides 45 days for the above-named landowners to provide written notification to the BLM, at the above address, of their objection to offering a non-competitive lease to Wildlife Images Rehabilitation and Education Center and of their desire to exercise their first right of lease offering (subject to payment of full cost recovery and fair market value rent). The following described lands have been examined and found suitable for leasing under the provisions of section 302(b) of FLPMA:

Willamette Meridian, Josephine County, Oregon

T. 35 S., R.7 W.,

A portion of the lands described in the deed from David B. Heriot, Benjamin M. Heriot, and Marcia Chamberlain to the United States, recorded Volume 283, Page 449 in Josephine County, Oregon, Deed Records, more particularly described as that portion lying West or Westerly of the Westerly right of way line of the State secondary Highway known as the Lower River Road of the following described tract: Beginning at the Southeast corner of the George B. Miller Donation Land Claim No. 37 in Township 35 South, Range 7 West of the Willamette Meridian; thence North 425.3 feet; thence West (bearing as cited in the above-mentioned deed from David B. Heriot, Benjamin M. Heriot, and Marcia Chamberlain to the United States of America) 1454.64 feet to the Southwest corner of a parcel of land described in deed from Black-Eagle Sun and Katherine B. Sun to Wildlife Images Rehabilitation and Education Center, Inc., recorded in Volume 65, Page 103, Josephine County, Oregon, Deed Records; thence Southerly to the South boundary of said Donation Land Claim No. 37, and the Northwest corner of a parcel of land described in deed from Mary Ann Wade and Gary Lynn Wade to Wildlife Images, Inc., recorded Volume 112, Page 2916 in Josephine County, Oregon, Deed Records; thence East (bearing as cited in the above-mentioned deed from David B. Heriot, Benjamin M. Heriot, and Marcia Chamberlain to the United States of America, along the South boundary of said Donation Land Claim No. 37) 1404.68 feet to the point of beginning.

The proposed lease is to resolve unauthorized uses related to Wildlife Images Rehabilitation and Education Center in Merlin, Oregon. Proposed authorizations include existing wildlife and supporting facilities such as a wildlife pond, wildlife enclosures, above- and below-ground power lines, buried water and phone lines, foot bridges, walking trails, etc. The lease is also proposed to include upgrading of wildlife fences to meet standards as set by state and/or Federal regulatory agencies.

As provided in 43 CFR 2920.5-4(b), “Land use authorizations may be offered on a negotiated, non-competitive basis when, in the judgment of the authorized officer, equities, such as prior use of the lands exist, no competitive interest exists or where competitive bidding would represent unfair competitive and economic disadvantage to the originator of the unique land use concept. The non-competitive lease shall be issued at no less than fair market value.”

A lease application will be accepted only from Wildlife Images Rehabilitation and Education Center to resolve the unauthorized uses. The lease application must include a reference to this notice and comply in all respects with the regulations pertaining to land use authorizations at 43 CFR 2920.5-2 and 2920.5-5(b). Before the BLM begins to process the application, the lease applicant must pay the full amount of the estimated costs of processing the application (including costs of preparing reports and statements required by the National Environment Policy Act, in accordance with 43 CFR 2920.6, 43 CFR 2804.16 and 43 CFR 2804.16). No final decision on the lease will be made until all required analyses are completed. If authorized, the lease would be subject to provisions of the FLPMA and all applicable regulations of the Secretary of the Interior, including, but not limited to, 43 CFR part 2920, and to valid existing rights.

Comments, including names, street addresses, and other contact information of respondents, will be available for public review. Before including your address, phone number, e-mail address, or other personal identifying information in your comment, be advised that your entire comment—including your personal identifying information—may be made publicly available at any time. While you can ask us in your comment to withhold from public review your personal identifying information, we cannot guarantee that we will be able to do so.

Abbie Jossie,
Field Manager, Grants Pass Resource Area.

[FR Doc. 2010-7987 Filed 4-7-10; 8:45 am]

BILLING CODE 4310-33-P